Proclamation 8448 of October 30, 2009

National Family Caregivers Month, 2009

By the President of the United States of America

A Proclamation

The true strength of the American family finds its roots in an unwavering commitment to care for one another. In difficult times, Americans come together to ensure our loved ones are comfortable and safe. Whether caring for a parent, relative, or child, our Nation’s caregivers selflessly devote their time and energy to the well-being of those they look after. During National Family Caregivers Month, we honor the individuals providing essential services to family members who could not otherwise look after themselves.

Caregiver support is at the heart of my Administration’s commitment to assisting our Nation’s families. Currently, a variety of programs and services offer help and encouragement to family caregivers. The National Family Caregiver Support Program and the Lifespan Respite Care Act include important resources for caregivers of children and adults, with opportunities to receive much-needed assistance and take part in support programs with other families. These programs allow individuals to remain with their families for as long as possible while helping to ensure the wellness of participating care providers.

My Administration’s dedication to caregivers is also embodied in our efforts to develop policies to support workers trying to manage their responsibilities on the job and at home. Families are best able to care for their loved ones when they can take time away from work without fear of losing their job or their income. We all have roles to play, including employers, by providing paid leave, flexible work arrangements, and other programs when feasible, to help ensure that caregivers are able to successfully meet their work and household responsibilities.

Every day, family caregivers assist loved ones with tasks ranging from personal care and homemaking, to transportation and financial assistance. As the foundation of America’s long-term care system, these individuals give millions of Americans the peace of mind and security that only family can provide.

NOW, THEREFORE, I, BARACK OBAMA, President of the United States of America, by virtue of the authority vested in me by the Constitution and the laws of the United States, do hereby proclaim November 2009 as National Family Caregivers Month. I encourage all Americans to pay tribute and support those who are caring for their family members, friends, and neighbors in need of assistance.

IN WITNESS WHEREOF, I have hereunto set my hand this thirtieth day of October, in the year of our Lord two thousand nine, and of the Independence of the United States of America the two hundred and thirty-fourth.

[FR Doc. E9-26764

Filed 11-3-09; 11:15 am]

Billing code 3195-W9-P